DEPARTMENT OF TRANSPORTATION

Federal Aviation Administration

14 CFR Part 71

[Docket No. FAA-2006-24027; Airspace Docket No. 06-ASO-1]

RIN 2120-AA66

Modification of VOR Federal Airways; and Establishment of Area Navigation Route; NC

AGENCY: Federal Aviation Administration (FAA), DOT.

ACTION: Final rule.

SUMMARY: This action modifies Very High Frequency Omnidirectional Range (VOR) Federal Airways V-56 and V-290, NC; and Colored Federal Airway G-13, NC; to remove unusable airway segments. In addition, this action establishes a new low altitude area navigation (RNAV) route, designated T-243, to enhance instrument flight rules (IFR) access to the Outer Banks area of North Carolina.

DATES: Effective Date: 0901 UTC, August 3, 2006.

FOR FURTHER INFORMATION CONTACT: Paul Gallant, Airspace and Rules, Office of System Operations Airspace and AIM, Federal Aviation Administration, 800 Independence Avenue, SW., Washington, DC 20591; telephone: (202) 267-8783.

SUPPLEMENTARY INFORMATION:

History

On March 17, 2006, the FAA published in the Federal Register a notice of proposed rulemaking to modify VOR Federal Airways V-56 and V-290, and Colored Federal Airway G-13, NC, to remove unusable airway segments; and to establish low altitude RNAV route T-243 (71 FR 13789). Interested parties were invited to participate in this rulemaking effort by submitting written comments on this proposal to the FAA. Two comments were received, both in favor of the proposal. With the exception of editorial changes, this amendment is the same as that proposed in the notice.

The Rule

This action amends Title 14 Code of Federal Regulations (14 CFR) part 71 by modifying the descriptions of VOR Federal Airways V-56 and V-290, and Colored Federal Airway G-13, to delete segments based on nondirectional beacon (NDB) navigation aids that are no longer in service. This action also establishes a new Global Positioning System (GPS)/Global Navigation Satellite System (GNSS) RNAV route, designated T-243, to enhance IFR navigation in the Outer Banks area of North Carolina. The FAA is taking this action to enhance the safe and efficient use of the navigable airspace in eastern North Carolina.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9N, Airspace Designations and Reporting Points, dated September 1, 2005, and effective September 15, 2005, is amended as follows:

Paragraph 6009(a)—Colored Federal Airways.

* * * * *

G-13 [Revised]

From Manteo, NC, NDB, to INT Manteo, NC, NDB 139° (T) bearing and Wright Brothers, NC, 22 miles DME.

* * * * *

Paragraph 6010(a)—Domestic VOR Federal Airways.

* * * * *

V-56 [Revised]

From Meridian, MS; Kewanee, MS; Montgomery, AL; Tuskeegee, AL; Columbus, GA; INT Columbus 087° (T) and Macon, GA, 266° (T) radials; Macon; Colliers, SC; Columbia, SC; Florence, SC; Fayetteville, NC, 41 miles 15 MSL, INT Fayetteville 098° (T) and New Bern, NC 256° (T) radials; to New Bern.

* * * * *

V-290 [Revised]

From Rainelle, WV; Montebello, VA; to Flat Rock, VA. From Tar River, NC; to INT Tar River 109° (T) radial and New Bern, NC, 042° (T) radial.

* * * * *

Paragraph 6011—Contiguous United States Area Navigation Routes.

* * * * *

T-243 PUNGO to ZOLMN [New]

PUNGO; Fix; lat. 35°36′38″ N., long. 76°27′03″ W

HULIP; WP; lat. 35°07′47″ N., long. 75°48′32″ W

ZOLMN; Fix; lat. 35°38′42″ N., long. 75°24′27″ W

* * * * *

Issued in Washington, DC, on May 25, 2006.
Edith V. Parish,
Manager, Airspace and Rules.

[FR Doc. 06-5035 Filed 6-1-06; 8:45 am]

BILLING CODE 4910-13-M